DEPARTMENT OF STATE

[Public Notice 11534]

Proposal To Extend and Amend Cultural Property Agreement Between the United States and Cyprus

AGENCY: Department of State.

ACTION: Public notice.

SUMMARY: Proposal to extend and amend the Memorandum of Understanding Between the Government of the United States of America and the Government of the Republic of Cyprus Concerning the Imposition of Import Restrictions on Pre-Classical and Classical Archaeological Objects and Byzantine and Post-Byzantine Period Ecclesiastical and Ritual Ethnological Materials.

FOR FURTHER INFORMATION CONTACT: Chelsea Freeland, Cultural Heritage Center, Bureau of Educational and Cultural Affairs: 202-632-6301; culprop@state.gov; include “Cyprus” in the subject line.

SUPPLEMENTARY INFORMATION: Pursuant to the authority vested in the Assistant Secretary of State for Educational and Cultural Affairs, and pursuant to 19 U.S.C. 2602(f)(1), an extension and amendment of the Memorandum of Understanding Between the Government of the United States of America and the Government of the Republic of Cyprus Concerning the Imposition of Import Restrictions on Pre-Classical and Classical Archaeological Objects and Byzantine and Post-Byzantine Period Ecclesiastical and Ritual Ethnological Materials is hereby proposed.

The Government of the Republic of Cyprus has requested that the agreement be amended to include additional categories of archaeological and ethnological material.

A copy of the Memorandum of Understanding, the Designated List of categories of material restricted from import into the United States, and related information can be found at the Cultural Heritage Center website: http://culturalheritage.state.gov.

Allison Davis,
Executive Director CPAC, Bureau of Educational and Cultural Affairs, Department of State.

[FR Doc. 2021-19671 Filed 9-10-21; 8:45 am]

BILLING CODE 4710-05-P